DEPARTMENT OF COMMERCE

Foreign-Trade Zones Board

Foreign-Trade Zone 238—Dublin, VA Site Renumbering Notice

Foreign-Trade Zone 238 was approved by the Foreign-Trade Zones Board on August 5, 1999 (Board Order 1047).

FTZ 238 currently consists of 1 “site” totaling 50 acres in the Dublin area. The current update does not alter the physical boundaries that have previously been approved, but instead involves an administrative renumbering that separates certain non-contiguous sites for recordkeeping purposes.

Under this revision, the site list for FTZ 238 will be as follows: Site 1 (35 acres)—within the New River Valley Airport on VA Route 100, Dublin; and, Site 2 (15 acres)—located at 4100 Bob White Boulevard, Pulaski.

For further information, contact Maureen Hinman at maureen.hinman@trade.gov or (202) 482-0627.

Dated: December 1, 2010.
Andrew McGilvray,
Executive Secretary.

[FR Doc. 2010-31103 Filed 12-9-10; 8:45 am]

BILLING CODE P